DEPARTMENT OF JUSTICE

Notice of Lodging of Proposed Stipulated Order Under the Clean Water Act

On July 26, 2023, the Department of Justice lodged a proposed Stipulated Order on Sewer System with the United States District Court for the Southern District of Mississippi in the lawsuit entitled United States and State of Mississippi v. City of Jackson, Mississippi, Civil Action No. 3:12-cv-790-HTW-LGI (S.D. Miss.) [Docket No. 36].

The proposed Stipulated Order places the operation of the sewer system of the City of Jackson, Mississippi (“City”) under the control of an Interim Third-Party Manager. The proposed Stipulated Order requires the Interim Third-Party Manager to perform substantial work to address problems plaguing the City's sewer system. The work required includes addressing more than 200 emergency sewer failure locations (many resulting in sanitary sewer overflows), addressing prohibited bypasses of treatment prior to discharging wastewater into the Pearl River, and implementing Management, Operations, and Maintenance Programs. The proposed Stipulated Order does not resolve any claims against the City or any non-compliance with the 2013 consent decree in this case.

The publication of this notice opens a period for public comment on the Stipulated Order. Comments should be addressed to the Assistant Attorney General, Environment and Natural Resources Division, and should refer to entitled United States and State of Mississippi v. City of Jackson, Mississippi, Civil Action No. 3:12-cv-790-HTW-LGI (S.D. Miss.), D.J. Ref. No. 90-5-1-1-09841. All comments must be submitted or postmarked by August 31, 2023. Comments may be submitted either by email or by mail:

To submit comments: | Send them to:
By email | pubcomment-ees.enrd@usdoj.gov.
By mail | Assistant Attorney General, U.S. DOJ—ENRD, P.O. Box 7611, Washington, DC 20044-7611.

During the public comment period, the Stipulated Order may be examined and downloaded at this Justice Department website: https://www.justice.gov/enrd/consent-decrees. We will provide a paper copy of the Stipulated Order upon written request and payment of reproduction costs. Please mail your request and payment to: Consent Decree Library, U.S. DOJ—ENRD, P.O. Box 7611, Washington, DC 20044-7611.

Please enclose a check or money order for $14.00 (25 cents per page reproduction cost) payable to the United States Treasury.

Lori Jonas,
Assistant Section Chief, Environmental Enforcement Section, Environment and Natural Resources Division.

[FR Doc. 2023-16261 Filed 7-31-23; 8:45 am]

BILLING CODE 4410-05-P